DEPARTMENT OF TRANSPORTATION

Federal Aviation Administration

[Summary Notice No. PE-2004-90]

Petitions for Exemption; Summary of Petitions Received

AGENCY: Federal Aviation Administration (FAA), DOT.

ACTION: Notice of petition for exemption received.

SUMMARY: Pursuant to FAA's rulemaking provisions governing the application, processing, and disposition of petitions for exemption, part 11 of Title 14, Code of Federal Regulations (14 CFR), this notice contains a summary of certain petitions seeking relief from specified requirements of 14 CFR. The purpose of this notice is to improve the public's awareness of, and participation in, this aspect of FAA's regulatory activities. Neither publication of this notice nor the inclusion or omission of information in the summary is intended to affect the legal status of any petition or its final disposition.

DATES: Comments on petitions received must identify the petition docket number involved and must be received on or before February 1, 2005.

ADDRESSES: You may submit comments identified by DOT DMS Docket Number FAA-2004-19708 or FAA-2004-19885 by any of the following methods:

• Web Site: http://dms.dot.gov. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

Docket: For access to the docket to read background documents or comments received, go to http://dms.dot.gov at any time or to Room PL-401 on the plaza level of the Nassif Building, 400 Seventh Street, SW., Washington, DC, between 9 a.m. and 5 p.m., Monday through Friday, except Federal holidays.

FOR FURTHER INFORMATION CONTACT: John Linsenmeyer (202) 267-5174 or Susan Lender (202) 267-8029, Office of Rulemaking (ARM-1), Federal Aviation Administration, 800 Independence Avenue, SW., Washington, DC 20591.

This notice is published pursuant to 14 CFR 11.85 and 11.91.

Anthony F. Fazio,
Director, Office of Rulemaking.

Petitions for Exemption

Docket No.: FAA-2004-19708.

Petitioner: Associated Scientists at Woods Hole.

Sections of 14 CFR Affected: 14 CFR 21.191(g).

Description of Relief Sought: To allow the petitioner to operate a Leza-Lockwood Air Cam aircraft for the purposes of scientific research. The Leza-Lockwood Air Cam aircraft holds a special airworthiness certificate in the Experimental category, for the purpose of operating amateur-built aircraft.

Docket No.: FAA-2004-19885.

Petitioner: Simula Aerospace and Defense Group, Inc.

Sections of 14 CFR Affected: 14 CFR 91.307(a) (2)(i).

Description of Relief Sought: To permit pilots to carry and make available for emergency use the Durachute Emergency Parachute System, when the Durachute Emergency Parachute System has not been packed within the previous 120 days. Specifically, Simula Aerospace and Defense Group, Inc. requests that the Durachute Emergency Parachute System be legal for carriage and emergency use in civil aircraft for up to 5 years after the date it was packed.

[FR Doc. 05-551 Filed 1-11-05; 8:45 am]

BILLING CODE 4910-13-P